DEPARTMENT OF ENERGY

Federal Energy Regulatory Commission

Notice of Intent To File Application for New License

May 24, 2005.

a. Type of filing: Notice of Intent to File Application for a New License.

b. Project No.: 1992.

c. Date filed: April 28, 2005.

d. Submitted By: Ken Willis.

e. Name of Project: Fire Mountain Lodge Hydroelectric Project.

f. Location: On Fern Springs, in Tehama County, California near the town of Chester, Plumas County, California. The project occupies lands of the United States within Lassen National Forest.

g. Filed Pursuant to: Section 15 of the Federal Power Act; 18 CFR 16.6 of the Commission's regulations.

h. Effective date of current license: May 1, 1980.

i. Expiration date of current license: May 30, 2010.

j. The project consists of: A 6-foot-high and 30-foot-long concrete and rockfill dam impounding water from a collection of springs; a 1540-foot-long penstock having a diameter of 15 inches for 680 feet of its length and a diameter of 18 inches for 860 feet of its length; a frame powerhouse containing a 45-horsepower Pelton wheel turbine connected to a 50kW generator (with an operating capability of 15kW due to flow and head limitations at the site), and approximately 1,000 feet of transmission line.

k. Pursuant to 18 CFR 16.7, information on the project is available at: Ken Willis, Fire Mountain Lodge, 43500 Highway 36, Mill Creek, CA 96061; 1049 Cinnamon Ranch Road, Bishop, CA 93514.

l. FERC contact: Ann-Ariel Vecchio, (202) 502-6351, ann-ariel.vecchio@ferc.gov.

m. Pursuant to 18 CFR 16.8, 16.9, and 16.10 each application for a new license and any competing license applications must be filed with the Commission at least 24 months prior to the expiration of the existing license. All applications for license for this project must be filed by May 30, 2008.

n. A copy of this filing is available for review at the Commission in the Public Reference Room or may be viewed on the Commission's website at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item k above.

o. Register online at http://www.ferc.gov/docs-filing/esubscription.asp to be notified via email of new filings and issuances related to this or other pending projects. For assistance, contact FERC Online Support as shown in the paragraph above.

Magalie R. Salas,
Secretary.

[FR Doc. E5-2757 Filed 5-31-05; 8:45 am]

BILLING CODE 6717-01-P